DEPARTMENT OF AGRICULTURE

Submission for OMB Review; Comment Request

May 14, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Web-Based Supply Chain System (WBSCM).

OMB Control Number: 0560-0177.

Summary of Collection: The Web-Based Supply Chain System (WBSCM) is a new procurement system in development to replace the current Commodity Operations Systems for several USDA agencies, and the United States Agency for International Development. The Agricultural Trade Development and Assistance Act of 1954, as amended, (Title II, Pub. L. 480), Section 416(b) of the Agricultural Act of 1949, as amended (Section 416(b)), and the Food for Progress Act of 1985, as amended (for Food for Progress) authorizes Commodity Management Division and International Procurement Division to prepare and issue announcement for the purchase of grain, procure, sell, and transport agricultural commodities, and obtain discharge/delivery survey information. Contractors, vendors, and steamship companies submit competitive offers for agricultural commodities and services. The Farm Service Agency (FSA) will collect information using WBSCM and some forms.

Need and Use of the Information: The information collected will enable Kansas City Commodity Office (KCCO) to evaluate offers impartially, purchase or sell commodities, and obtain services to meet domestic and export program needs. Without the information KCCO could not meet program requirements.

Description of Respondents: Business or other for-profit.

Number of Respondents: 829.

Frequency of Responses: Recordkeeping; Reporting: On occasion; Quarterly; Weekly; Semi-annually; Monthly; Annually; Other (Bi-weekly & Bi-monthly).

Total Burden Hours: 1,066.

Ruth Brown,
Departmental Information Collection Clearance Officer.

[FR Doc. 2010-12003 Filed 5-18-10; 8:45 am]

BILLING CODE 3410-05-P